DEPARTMENT OF ENERGY

Federal Energy Regulatory Commission

Notice; Sunshine Act

October 20, 2004.

The following notice of meeting is published pursuant to section 3(A) of the Government in the Sunshine Act (Pub. L. 94-409), 5 U.S.C 552b:

Agency Holding Meeting: Federal Energy Regulatory Commission.

Date and Time: October 27, 2004, 10 a.m.

Place: Room 2C, 888 First Street, NE., Washington, DC 20426.

Status: Open.

Matters to be Considered: Agenda. *Note—Items listed on the agenda may be deleted without further notice.

Contact Person for More Information: Magalie R. Salis, Secretary, Telephone (202) 502-8400. For a recording listing items stricken from or added to the meeting, call (202) 502-8627.

This is a list of matters to be considered by the Commission. It does not include a listing of all papers relevant to the items on the agenda; however, all public documents may be examined in the Reference and Information Center.

872ND—Meeting, October 27, 2004. Regular Meeting, 10 a.m.

Administrative Agenda

A-1.

Docket# AD02-1, 000, Agency Administrative Matters

A-2.

Docket# AD02-7, 000, Customer Matters, Reliability, Security and Market Operations

A-3 Presentation by John Bear, Chief Operating Officer, for Midwest Independent Transmission System Operator, Inc.

Markets, Tariffs and Rates—Electric

E-1.

Docket# EL00-95, 111, San Diego Gas & Electric Company v. Sellers of Energy and Ancillary Services Into Markets Operated by the California Independent System Operator Corporation and the California Power Exchange

Other #s EL00-98, 098, Investigation of Practices of the California Independent System Operator and the California Power Exchange

E-2.

Docket# EL02-129, 001, Southern California Water Company

E-3.

Docket# ER03-171, 002, Entergy Mississippi, Inc.

Other #s ER03-171, 003, Entergy Mississippi, Inc.

ER03-171, 004, Entergy Mississippi, Inc.

E-4.

Docket# ER04-458, 002, Midwest Independent Transmission System Operator, Inc.

Other #s ER04-458, 003, Midwest Independent Transmission System Operator, Inc

E-5.

Docket# ER04-316, 001, Southern California Edison Company on Behalf of Mountainview Power Company, LLC

E-6.

Docket# ER04-622, 001, Redbud Energy LP

E-7.

Docket# ER04-521, 002, PJM Interconnection, L.L.C. and Midwest Independent Transmission System Operator, Inc.

Other #s ER04-521, 001, PJM Interconnection, L.L.C. and Midwest Independent Transmission System Operator, Inc.

ER04-521, 004, PJM Interconnection, L.L.C. and Midwest Independent Transmission System Operator, Inc.

ER04-375, 004, PJM Interconnection, L.L.C. and Midwest Independent Transmission System Operator, Inc.

ER04-375, 002, PJM Interconnection, L.L.C. and Midwest Independent Transmission System Operator, Inc.

ER04-718, 000, PJM Interconnection, L.L.C. and Commonwealth Edison Company

ER04-718, 002, PJM Interconnection, L.L.C. and Commonwealth Edison Company

E-8.

Docket# EL00-95, 092, San Diego Gas & Electric Company v. Sellers of Energy and Ancillary Services Into Markets Operated by the California Independent System Operator Corporation and the California Power Exchange

Other #s EL00-98, 079, Investigation of Practices of the California Independent System Operator and the California Power Exchange

E-9.

Docket# ER04-1013, 000, Wheelabrator Westchester, L.P.

Other #s ER04-1013, 001, Wheelabrator Westchester, L.P.

ER04-1013, 002, Wheelabrator Westchester, L.P.

ER98-3030, 002, Wheelabrator Westchester, L.P.

ER98-3030, 004, Wheelabrator Westchester, L.P.

E-10.

Docket# ER99-1610, 006, Xcel Energy Services, Inc.

Other #s ER04-1207, 000, Xcel Energy Services, Inc.

E-11.

Docket# ER04-1245, 000, Fibrominn LLC

E-12.

Docket# ER03-10, 002, ONEOK Energy Marketing and Trading Company, L.P.

E-13.

Docket# ER04-1131, 000, Starlight, Energy LP

Other #s ER04-1131, 001, Starlight, Energy LP

E-14.

Docket# ER04-1022, 000, Choice Energy Services, L.P.

Other #s ER04-1022, 001, Choice Energy Services, L.P.

E-15.

Docket# ER04-1113, 000, Pythagoras Global Investors, L.P.

Other #s ER04-1113, 001, Pythagoras Global Investors, L.P.

E-16.

Docket# ER04-1220, 000, Caprock Wind LLC

E-17.

Docket# ER04-1222, 000, DB Energy Trading LLC

E-18.

Docket# ER04-1215, 000, Anthracite Power and Light Company

Other #s ER04-1215, 001, Anthracite Power and Light Company

E-19.

Docket# ER03-1102, 003, California Independent System Operator Corporation

Other #s ER03-1102, 004, California Independent System Operator Corporation

E-20.

Docket# ER03-1102, 005, California Independent System Operator Corporation

E-21.

Docket# EL03-26, 000, New York Independent System Operator, Inc. v. Dynegy Power Marketing, Inc.

Other #s EL03-26, 001, New York Independent System Operator, Inc. v. Dynegy Power Marketing, Inc.

EL003-26, 002, New York Independent System Operator, Inc. v. Dynegy Power Marketing, Inc.

E-22.

Omitted

E-23.

Omitted

E-24.

Omitted

E-25.

Omitted

E-26.

Omitted

E-27.

Docket# ER04-1188, 000, New York Independent System Operator, Inc.

E-28.

Docket# ER04-1149, 000, NewCorp Resources Electric Cooperative, Inc.

Other #s ER04-1149, 001, NewCorp Resources Electric Cooperative, Inc.

E-29.

Docket# ER04-1179, 000, PJM Interconnection, L.L.C.

E-30.

Docket# ER04-1160, 000, Midwest Independent Transmission System Operator, Inc.

E-31.

Omitted

E-32.

Docket# ER04-1010, 000, AES Ironwood, LLC

Other #s ER04-1010, 001, AES Ironwood, LLC

ER01-1315, 002, AES Ironwood, LLC

E-33.

Docket# ER04-1176, 000, Southern California Edison Company

E-34.

Docket# ER04-1194, 000, SESCO Enterprises Canada Ltd.

E-35.

Docket# ER04-1165, 000, Midwest Independent Transmission System Operator, Inc.

Other #s ER04-1165, 001, Midwest Independent Transmission System Operator, Inc.

EL04-43, 002, Tenaska Power Services Company v. Midwest Independent Transmission System Operator, Inc.

EL04-43, 003, Tenaska Power Services Company v. Midwest Independent Transmission System Operator, Inc.

EL04-46, 002, Cargill Power Markets, LLC v. Midwest Independent Transmission System Operator, Inc.

EL04-46, 003, Cargill Power Markets, LLC v. Midwest Independent Transmission System Operator, Inc.

E-36.

Docket# ER04-1135, 000, Wisconsin Power & Light Company

E-37.

Omitted

E-38.

Docket# ER04-663, 000, Entergy Services, Inc.

E-39.

Docket# ER02-2407, 002, Brascan Energy Marketing Inc.

E-40.

Docket# ER01-989, 002, Green Mountain Power Corporation

ER01-989, 003, Green Mountain Power Corporation

E-41.

Docket# ER01-2306, 001, Peoples Energy Services Corporation

E-42.

Docket# ER01-2508, 001, ENMAX Energy Marketing, Inc.

E-43.

Omitted

E-44.

Docket# ER03-407, 004, California Independent System Operator Corporation

E-45.

Docket# ER03-1272, 003, Entergy Services, Inc.

E-46.

Omitted

E-47.

Docket# EC4-110, 000, Michigan Electric Transmission Company, LLC

Other #s ER04-847, 000, Michigan Electric Transmission Company, LLC

E-48.

Omitted

E-49.

Docket# EF03-3011, 000, United States Department of Energy—Southeastern Power Administration (Georgia-Alabama-South Carolina System)

E-50.

Omitted

E-51.

Omitted

E-52.

Omitted

E-53.

Omitted

E-54.

Omitted

E-55.

Docket# ER00-565, 001, Pacific Gas and Electric Company

Other #s ER00-565, 007, Pacific Gas and Electric Company

E-56.

Docket# EL03-184, 000, Colorado River Commission of Nevada

E-57.

Docket# ER04-227, 000, Mirant Delta, LLC and Mirant Potrero, Inc.

E-58.

Docket# EL04-26, 000, Sithe Energies, Inc.

Other #s QF85-311, 004, Acme POSDEF Partners, L.P.

E-59.

Docket# QF95-328, 007, EcoEléctrica, L.P.

E-60.

Docket# ER04-835, 001, California Independent System Operator Corporation

Other #s ER04-835, 002, California Independent System Operator Corporation

ER04-835, 003, California Independent System Operator Corporation

E-61.

Docket# ER01-2214, 003, Entergy Services, Inc.

E-62.

Docket# ER04-691, 003, Midwest Independent Transmission System System Operator, Inc.

Other #s ER04-691, 007, Midwest Independent Transmission System System Operator, Inc.

EL04-104, 003, Public Utilities With Grandfathered Agreements in the Midwest ISO Region

EL04-104, 006, Public Utilities With Grandfathered Agreements in the Midwest ISO Region

Markets, Tariffs and Rates—Gas

G-1.

Docket# RP04-254, 000, City of Hamilton, Ohio v. Texas Eastern Transmission, L.P.

G-2.

Docket# RP04-378, 000, Gas Technology Institute

G-3.

Docket# RP02-362, 006, Gas Transmission Northwest Corporation

G-4.

Docket# RP04-92, 001, Georgia Public Service Commission

Other #s RP04-92, 002, Georgia Public Service Commission

G-5.

Omitted

G-6.

Omitted

G-7.

Omitted

G-8.

Omitted

G-9.

Docket# RP00-469, 007, East Tennessee Natural Gas Company

Other #S RP00-469, 008, East Tennessee Natural Gas Company

RP00-469, 009, East Tennessee Natural Gas Company

RP01-22, 009, East Tennessee Natural Gas Company

RP01-22, 010, East Tennessee Natural Gas Company

RP01-22, 011, East Tennessee Natural Gas Company

RP03-177, 004, East Tennessee Natural Gas Company

RP03-177, 005, East Tennessee Natural Gas Company

RP03-177, 006, East Tennessee Natural Gas Company

G-10.

Docket# RP02-551, 002, Dominion Transmission, Inc.

Other #s RP02-551, 003, Dominion Transmission, Inc.

G-11.

Docket# RP04-267, 001, Transcontinental Gas Pipe Line Corporation

G-12.

Omitted

G-13.

Omitted

G-14.

Docket# TS04-76, 000, American Transmission Company, LLC

Other #s TS04-76, 001, American Transmission Company, LLC

TS04-53, 001, Destin Pipeline Company, LLC

TS04-280, 000, Jupiter Energy Corporation

TS04-282, 000, Old Dominion Electric Cooperative

TS04-234, 001, SCG Pipeline, Inc.

TS04-278, 000, Stingray Pipeline Company and Nautilus

Pipeline Company

TS04-276, 000, United Illuminating Company

TS04-164, 000, Venice Gathering System

TS04-268, 000, WestGas Interstate, Inc.

TS04-125, 000, Wisconsin Public Service Corp., and Upper Peninsula Power Company

ER04-397, 000, Wisconsin Public Service Corp., and Upper Peninsula Power Company

G-15.

Docket# RP04-51, 000, Paiute Pipeline Company

G-16.

Docket# RP02-335, 002, ANR Pipeline Company

G-17.

Docket# RP05-04, 000, Maritimes and Northeast Pipeline, L.L.C.

Energy Projects—Hydro

H-1.

Omitted

H-2.

Docket# P-1494, 251, Grand River Dam Authority

H-3.

Docket# P-3605, 036, Adirondack Hydro-Fourth Branch, LLC

H-4.

Docket# P-1971, 093, Idaho Power Company

H-5.

Docket# P-2000, 051, Power Authority of the State of New York

Other #s EL03-224, 001, Massachusetts Municipal Wholesale Electric Company v. Power Authority of the State of New York

H-6.

Docket# P-516, 396, South Carolina Electric & Gas Company

H-7.

Docket# P-516, 398, South Carolina Electric & Gas Company

H-8.

Docket# P-1354, 036, Pacific Gas and Electric Company

H-9.

Docket# P-516, 386, South Carolina Electric & Gas Company

H-10.

Docket# P-11659, 002, Gustavus Electric Company

Energy Projects—Certificates

C-1.

Omitted

C-2.

Docket# CP04-371, 000, Chandeleur Pipe Line Company

C-3.

Docket# CP04-60, 000, Tennessee Gas Pipeline Company

C-4.

Docket# CP04-334, 000, CenterPoint Energy—Mississippi River Transmission Corporation

C-5.

Docket# RP04-139, 001, Virginia Natural Gas, Inc., v. Columbia Gas Transmission Corporation

Magalie R. Salas,
Secretary.

The Capitol Connection offers the opportunity for remote listening and viewing of the meeting. It is available for a fee, live over the Internet, via C-Band Satellite. Persons interested in receiving the broadcast, or who need information on making arrangements should contact David Reininger or Julia Morelli at the Capitol Connection (703-993-3100) as soon as possible or visit the Capitol Connection Web site at http://www.capitolconnection.gmu.edu and click on “FERC”.

[FR Doc. 04-23995 Filed 10-21-04; 4:44 pm]

BILLING CODE 6717-01-P